DEPARTMENT OF THE INTERIOR

Bureau of Land Management

[MT-020-1310-DT 050E]

Notice of Availability of the Record of Decision for the Final Supplement to the Montana Statewide Oil and Gas Environmental Impact Statement and Proposed Amendment of the Powder River and Billings Resource Management Plans

AGENCY: Bureau of Land Management, Interior.

ACTION: Notice of Availability.

SUMMARY: By Order of the U.S. District Court for the District of Montana, dated April 5, 2005, and pursuant to the Federal Land Policy and Management Act of 1976 and the National Environmental Policy Act of 1969, the Bureau of Land Management (BLM) has prepared the Record of Decision (ROD) approving BLM's 2008 Final Supplement to the Montana Statewide Oil and Gas Environmental Impact Statement and Proposed Amendment of the Powder River and Billings Resource Management Plans (RMP) (Final SEIS/Amendment).

ADDRESSES: Copies of the ROD have been sent to affected Federal, state, and local government agencies; to tribal governments; and to interested parties. Copies of the ROD are available for public inspection at the BLM Miles City Field Office, 111 Garryowen Road, Miles City, Montana; and at the BLM Montana State Office, 5001 Southgate Drive, Billings, Montana. You may also view the ROD on the Internet at http://www.blm.gov/eis/mt/milescity_seis/.

FOR FURTHER INFORMATION CONTACT: Mary Bloom, Project Manager, by telephone at (406) 233-2852; by mail at 111 Garryowen Road, Miles City, MT 59301; or by e-mail at Mary_Bloom@blm.gov.

SUPPLEMENTARY INFORMATION: The Powder River and Billings Resource Management Plan (RMP) areas comprise approximately 1.5 million acres of BLM-managed surface and 5 million acres of BLM-managed mineral estate. There are approximately 3.2 million acres of BLM-managed oil and gas estate. The Powder River RMP area includes Powder River and Treasure Counties, and portions of Big Horn, Carter, Custer, and Rosebud Counties. The Billings RMP area includes Carbon, Golden Valley, Musselshell, Stillwater, Sweet Grass, Wheatland, and Yellowstone Counties and the remaining portion of Big Horn County. The SEIS supporting the ROD supplements the 2003 Montana Statewide Final Oil and Gas Environmental Impact Statement and Proposed Amendment of the Powder River and Billings Resource Management Plans (Statewide Document).

The 90-day public comment period on the Draft SEIS/Amendment ended May 2, 2007. The Final SEIS/Proposed Amendment was made available to the public November 7, 2008. After release of the Final SEIS/Proposed Amendment, and prior to approval of the ROD, the BLM coordinated and consulted with the Montana Governor (43 CFR 1610.3-2).

The Federal Land Policy and Management Act of 1976 and its implementing regulations provide land use planning authority to the Secretary, as delegated to the Assistant Secretary for Land and Minerals Management. Because the ROD was signed by the Assistant Secretary, it is the final decision for the Department of the Interior. Therefore, the decision is not subject to the protest procedures identified at 43 CFR 1610.5-2.

Gene R. Terland,
State Director.

[FR Doc. E9-33 Filed 1-6-09; 8:45 am]

BILLING CODE 4310-$$-P